DEPARTMENT OF DEFENSE

Office of the Secretary

Transformation Advisory Group Meeting of the U.S. Joint Forces Command

AGENCY: Department of Defense, USJFCOM.

ACTION: Notice of closed meeting.

SUMMARY: The Transformation Advisory Group (TAG) will meet in a closed session on November 30 and December 1, 2004. The mission of the TAG is to provide timely on scientific, technical, and policy-related issues to the Commander, U.S. Joint Forces Command as he develops and executes the Department of Defense strategy. Full development of the topics will require discussion of information classified in accordance with Executive Order 12958, dated April 17, 1995, as amended March 25, 2003. Access to this information must be strictly limited to personnel having the requisite security clearances and specific need-to-know. Unauthorized disclosure of the information to be discussed at the TAG meeting could have exceptionally grave impact on national defense. In accordance with Section 10(d) of the Federal Advisory Committee Act (5 U.S.C. 552b(c), and 41 CFR 102-3.155, this meeting will be closed.

DATES: 30 November-01 December 2004.

ADDRESSES: USJFCOM, 1562 Mtscher Avenue, Suite 200, Norfolk, Virginia 23551-2488.

FOR FURTHER INFORMATION CONTACT: Stephanie Roper-Burton, Executive Director, (757) 836-0965.

SUPPLEMENTARY INFORMATION: Jerome Mahar, Joint Staff, (703) 614-6465.

Dated: October 29, 2004.
Jeannette Owings-Ballard,
OSD Federal Register Liaison Officer, Department of Defense.

[FR Doc. 04-25905 Filed 11-19-04; 8:45 am]

BILLING CODE 5001-06-P